DEPARTMENT OF LABOR

Mine Safety and Health Administration

30 CFR Parts 5, 15, 18, 19, 20, 22, 23, 27, 28, 33, 35, and 36

RIN 1219-AB38

Fees for Testing, Evaluation, and Approval of Mining Products; Correction

AGENCY: Mine Safety and Health Administration (MSHA), Labor.

ACTION: Proposed rule; correction.

SUMMARY: This document corrects the preamble to a proposed rule published in the Federal Register of August 9, 2005, regarding fees for testing, evaluation, and approval of mining products.

FOR FURTHER INFORMATION CONTACT: Rebecca J. Smith, Acting Director, Office of Standards, Regulations, and Variances, MSHA, 1100 Wilson Blvd., Room 2313, Arlington, Virginia 22209-3939, smith-rebecca@dol.gov, (202) 693-9440 (telephone), (202) 693-9441 (facsimile).

Corrections

1. On page 46345, in the first column, under Addresses, change the e-mail address from “comments@msha.gov” to “zzmsha-comments@dol.gov”.

2. On page 46345, in the first column, under “Regular Mail or Hand Delivery,” change the zip code to “22209-3939”.

3. On page 46346, in the third column, in the third paragraph under “Section 5.30 Fee Calculation,” in the second sentence, change the word “revised” to “existing”.

4. On page 46347, in the first column, in the second full paragraph, in the sixth sentence, change the term “part 5” to “part 15”.

5. On page 46348, in the first column, in the second paragraph, in the first sentence, change the word “applied” to “apply”.

§ 22.4 [Corrected]

6. On page 46352, in the second column, in the first sentence of the rule text for § 22.4(a), change the term “the active investigation of” to “an active investigation”.

§ 23.3 [Corrected]

7. On page 46352, in the second column, in the first sentence of the rule text for § 23.3(a), change the term “the active investigation of” to “an active investigation”.

Dated: August 16, 2005.
Robert M. Friend,
Acting Deputy Assistant Secretary.

[FR Doc. 05-16559 Filed 8-19-05; 8:45 am]

BILLING CODE 4510-43-P